DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The ICR describes the nature of the information collection and the expected burden. The Federal Register Notice with a 60-day comment period soliciting comments on the following collection of information was published on November 14, 2001, pages 57149-57140.

DATES: Comments must be submitted on or before April 3, 2002. A comment to OMB is most effective if OMB receives it within 30 days of publication.

FOR FURTHER INFORMATION CONTACT: Judy Street on (202) 267-9895.

SUPPLEMENTARY INFORMATION:

Federal Aviation Administration (FAA)

Title: Certificated Training Centers, Simulator Rule.

Type of Request: Extension of a currently approved collection.

OMB Control Number: 2120-0570.

Form(s) AAA Form 8400-8, Operations Specifications.

Affected Public: A total of 75 training center certificate holders.

Abstract: To determine regulatory compliance, there is a need to maintain records of certain training and recency of experience; there is a need for training centers to maintain records of student training, employee qualification and training, and training program approvals. The information is used to determine compliance with airmen certification and testing to ensure safety.

Estimated Annual Burden Hours: An estimated 6,822 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality and clarity of the information to be collected; and ways to minimize the burden of the collection of information on respondents, including the use of automated collection techniques or other forms of information technology.

Issued in Washington, DC, on February 27, 2002.
Steve Hopkins,
Manager, Standards and Information Division, APF-100.

[FR Doc. 02-5120 Filed 3-1-02; 8:45 am]

BILLING CODE 4910-12-M